DEPARTMENT OF AGRICULTURE

Grain Inspection, Packers and Stockyards Administration

Opportunity for Designation in the Champaign, IL; Detroit, MI; Davenport, IA; Enid, OK; Keokuk, IA; Marshall, MI; and Omaha, NE Areas and Request for Comments on the Official Agencies Serving These Areas

AGENCY: Grain Inspection, Packers and Stockyards Administration, USDA.

ACTION: Notice.

SUMMARY: The designations of the official agencies listed below will end on March 31, 2010. We are asking persons or governmental agencies interested in providing official services in the areas served by these agencies to submit an application for designation. We are also asking for comments on the quality of services provided by these currently designated agencies: Champaign-Danville Grain Inspection Departments, Inc. (Champaign); Detroit Grain Inspection Service, Inc. (Detroit); Eastern Iowa Grain Inspection and Weighing Service, Inc. (Eastern Iowa); Enid Grain Inspection Company, Inc. (Enid); Keokuk Grain Inspection Service (Keokuk); Michigan Grain Inspection Services, Inc. (Michigan); and Omaha Grain Inspection Service, Inc. (Omaha).

DATES: Applications and comments must be received on or before October 1, 2009.

ADDRESSES: We invite you to submit applications and comments on this notice by any of the following methods:

• To apply for designation, go to “FGISonline” at: https://fgis.gipsa.usda.gov/default_home_FGIS.aspx then select Delegations/Designations and Export Registrations (DDR). You will need a USDA e-authentication, username, password, and a customer number prior to applying.

• Hand Delivery or Courier: Karen Guagliardo, Review Branch Chief, Compliance Division, GIPSA, USDA, Room 1647-S, 1400 Independence Avenue, SW., Washington, DC 20250.

• Fax: (202) 690-2755, to the attention of: Karen Guagliardo.

• E-mail: Karen.W.Guagliardo@usda.gov.

• Mail: Karen Guagliardo, Review Branch Chief, Compliance Division, GIPSA, USDA, STOP 3604, 1400 Independence Avenue, SW., Washington, DC 20250-3604.

• Internet: Go to http://www.regulations.gov. Follow the online instructions for submitting and reading comments online.

Read Applications and Comments: All applications and comments will be available for public inspection at the office above during regular business hours (7 CFR 1.27(b)).

FOR FURTHER INFORMATION CONTACT: Karen Guagliardo at 202-720-7312, e-mail Karen.W.Guagliardo@usda.gov.

SUPPLEMENTARY INFORMATION: Section 7(f)(1) of the United States Grain Standards Act (USGSA or Act) (7 U.S.C. 71-87k) authorizes GIPSA's Administrator to designate a qualified applicant to provide official services in a specified area after determining that the applicant is better able than any other applicant to provide such official services.

Under section 7(g)(1) of the USGSA, designations of official agencies are effective for 3 years unless terminated by the Secretary, but may be renewed according to the criteria and procedures prescribed in section 7(f) of the Act.

Areas Open for Designation

Champaign

Pursuant to Section 7(f)(2) of the Act, the following geographic areas in the States of Illinois, Indiana, and Michigan are assigned to this official agency.

• In Illinois and Indiana:

○ Bounded on the North by the northern Livingston County line from State Route 47; the eastern Livingston County line to the northern Ford County line; the northern Ford and Iroquois County lines east to Interstate 57; Interstate 57 north to the northern Will County line and east to the Illinois-Indiana State line; the Illinois-Indiana State line north to the northern Lake County line; the northern Lake, Porter, Laporte, St. Joseph, and Elkhart County lines;

○ Bounded on the East by the eastern and southern Elkhart County lines; the eastern Marshall County line; the southern Marshall and Starke County lines; the eastern Jasper County line south-southwest to U.S. Route 24; U.S. Route 24 west to Indiana State Route 55; Indiana State Route 55 south to the Newton County line; the southern Newton County line west to U.S. Route 41; U.S. Route 41 south to the northern Parke County line; the northern Parke and Putnam County lines; the eastern Putnam, Owen and Greene County lines;

○ Bounded on the South by the southern Greene County line; the southern Sullivan County line west to U.S. Route 41(150); U.S. Route 41(150) south to U.S. Route 50; U.S. Route 50 west across the Indiana-Illinois State line to Illinois State Route 33; Illinois State Route 33 north and west to the Western Crawford County line; and

○ Bounded on the West by the western Crawford and Clark County lines; the Southern Coles County line; the western Coles and Douglas County lines; the western Champaign County line north to Interstate 72; Interstate 72 southwest to the Piatt County line; the western Piatt County line; the southern McLean County line west to a point 10 miles west of the western Champaign County line, from this point through Arrowsmith to Pontiac along a straight line running north and south which intersects with State Route 116; State Route 116 east to State Route 47; State Route 47 north to the northern Livingston County line.

• In Michigan:

○ Berrien, Cass, and St. Joseph Counties.

The following grain elevators located within Champaign's assigned geographic area are serviced by Titus Grain Inspection, Inc.: Kentland Elevator and Supply, Boswell, Benton County, Indiana; ADM, Dunn, Benton County, Indiana; and ADM, Raub, Benton County, Indiana.

The following grain elevators located outside of the above areas are serviced by Champaign: Okaw Cooperative, Cadwell, Moultrie County; ADM (3 elevators), Farmer City, Dewitt County; and Topflight Grain Company, Monticello, Piatt County (located inside Decatur Grain Inspection, Inc.'s, area).

All export port locations within Champaign's assigned geographic area are serviced by GIPSA.

Detroit

Pursuant to Section 7(f)(2) of the Act, the following geographic areas in the State of Michigan are assigned to this official agency.

• Bounded on the North by the northern Clinton County line; the eastern Clinton County line south to State Route 21; State Route 21 east to State Route 52; State Route 52 north to the Shiawassee County line; the northern Shiawassee County line east to the Genesee County line; the western Genesee County line; the northern Genesee County line east to State Route 15; State Route 15 north to Barnes Road; Barnes Road east to Sheridan Road; Sheridan Road north to State Route 46; State Route 46 east to State Route 53; State Route 53 north to the Michigan State line;

• Bounded on the East by the Michigan State line south to State Route 50;

• Bounded on the South by State Route 50 west to U.S. Route 127; and

• Bounded on the West by U.S. Route 127 north to U.S. Route 27; U.S. Route 27 north to the northern Clinton County line.

The following grain elevator, located outside of the above areas is serviced by Detroit: Caledonia Farmers Elevator, St. Johns, Clinton County (located inside Michigan Grain Inspection Services, Inc.'s, area).

Eastern Iowa

Pursuant to Section 7(f)(2) of the Act, the following geographic areas in the States of Illinois, Iowa, and Wisconsin are assigned to this official agency.

• In the States of Illinois and Iowa:

○ Northern Area:

◆ Jo Daviess, Stephenson, Winnebago, Boone, McHenry, Lake, Will DuPage, Kendall, DeKalb, Lee, and Ogle Counties in Illinois and

◆ Delaware and Dubuque Counties in Iowa.

○ Southern Area:

◆ Bounded on the North, in Iowa, by Interstate 80 from the western Iowa County line east to State Route 38; State Route 38 north to State Route 130; State Route 130 east to the Mississippi River;

◆ Bounded on the East, in Illinois, from the Mississippi River to the eastern Rock Island County line; the northern Henry and Bureau County lines; east to State Route 88; State Route 88 south to the southern Bureau County line; the eastern and southern Henry County lines; the eastern Knox County line;

◆ Bounded on the South by the southern Knox County line; the eastern and southern Warren County lines; the southern Henderson County line across the Mississippi River; in Iowa, by the southern Des Moines, Henry, Jefferson, and Wapello County lines; and

◆ Bounded on the West by the western and northern Wapello County lines; the western and northern Keokuk County lines; the western Iowa County line north to Interstate 80.

• In the State of Wisconsin:

○ The entire State of Wisconsin, for domestic services.

All export port locations within Eastern Iowa's assigned geographic areas in the State of Illinois are serviced by GIPSA and in the State of Wisconsin are serviced by GIPSA (Milwaukee) and the Wisconsin Department of Agriculture (Superior).

Enid

Pursuant to Section 7(f)(2) of the Act, the following geographic areas in the States of Oklahoma and Texas are assigned to this official agency.

• In Oklahoma:

○ Adair, Alfalfa, Atoka, Beckham, Blaine, Bryan, Caddo, Canadian, Carter, Cherokee, Choctaw, Cleveland, Coal, Comanche, Cotton, Craig, Creek, Custer, Delaware, Dewey, Ellis, Garfield, Garvin, Grady, Grant, Greer, Harmon, Harper, Haskell, Hughes, Jackson, Jefferson, Johnston, Kay, Kingfisher, Kiowa, Latimer, Le Flore, Lincoln, Logan, Love, McClain, McCurtain, McIntosh, Major, Marshall, Mayes, Murray, Muskogee, Noble, Nowata, Okfuskee, Oklahoma, Okmulgee, Osage, Ottawa, Pawnee, Payne, Pittsburg, Pontotoc, Pottawatomie, Pushmataha, Roger Mills, Rogers, Seminole, Sequoyah, Stephens, Tillman, Tulsa, Wagoner, Washington, Washita, Woods, and Woodward Counties.

• In Texas:

○ Clay, Wichita, and Wilbarger Counties.

Keokuk

Pursuant to Section 7(f)(2) of the Act, the following geographic areas in the States of Illinois and Iowa are assigned to this official agency.

• In Illinois:

○ Adams, Brown, Fulton, Hancock, Mason, McDonough, and Pike (northwest of a line bounded by U.S. Route 54 northeast to State Route 107; State Route 107 northeast to State Route 104; State Route 104 east to the eastern Pike County line) Counties.

• In Iowa:

○ Davis, Lee, and Van Buren Counties.

Michigan

Pursuant to Section 7(f)(2) of the Act, the following geographic areas in the States of Michigan and Ohio are assigned to this official agency.

• In Michigan:

○ Bounded on the North by the northern Michigan State line;

○ Bounded on the East by the eastern Michigan State line south and east to State Route 53; State Route 53 south to State Route 46; State Route 46 west to Sheridan Road; Sheridan Road south to Barnes Road; Barnes Road west to State Route 15; State Route 15 south to the Genesee County line; the northern Genesee County line west to the Shiawassee County line; the northern Shiawassee County line west to State Route 52; State Route 52 south to State Route 21; State Route 21 west to Clinton County; the eastern and northern Clinton County lines west to U.S. Route 27; U.S. Route 27 south to U.S. Route 127; U.S. Route 127 south to the Michigan-Ohio State line.

• In Ohio:

○ In Ohio, the northern State line east to the eastern Fulton County line; the eastern Fulton, Henry, and Putnam County lines; the eastern Allen County line south to the northern Hardin County line; the northern Hardin County line east to U.S. Route 68; U.S. Route 68 south to State Route 47;

○ Bounded on the South by State Route 47 west-southwest to Interstate 75 (excluding all of Sidney, Ohio); Interstate 75 south to the Shelby County line; the southern and western Shelby County lines; the southern Mercer County line; and

○ Bounded on the West by the Ohio-Indiana State line from the southern Mercer County line to the northern Williams County line; in Michigan, by the southern Michigan State line west to the Branch County line; the western Branch County line north to the Kalamazoo County line; the southern Kalamazoo and Van Buren County lines west to the Michigan State line; the western Michigan State line north to the northern Michigan State line.

The following grain elevators located within Michigan's assigned geographic area are serviced by official agencies other than Michigan: Caledonia Farmers Elevator, St. Johns, Clinton County, Michigan (serviced by Detroit Grain Inspection Service, Inc.) and E.M.P. Coop, Payne, Paulding County, Ohio (serviced by Northeast Indiana Grain Inspection, Inc.).

Omaha

Pursuant to Section 7(f)(2) of the Act, the following geographic areas in the States of Iowa and Nebraska are assigned to this official agency.

• Bounded on the North by Nebraska State Route 91 from the western Washington County line east to U.S. Route 30; U.S. Route 30 east to the Missouri River; the Missouri River north to Iowa State Route 175; Iowa State Route 175 east to Iowa State Route 37; Iowa State Route 37 southeast to the eastern Monona County line;

• Bounded on the East by the eastern Monona County line; the southern Monona County line west to Iowa State Route 183; Iowa State Route 183 south to the Pottawattamie County line; the northern and eastern Pottawattamie County lines; the southern Pottawattamie County line west to M47; M47 south to Iowa State Route 48; Iowa State Route 48 south to the Montgomery County line;

• Bounded on the South by the southern Montgomery County line; the southern Mills County line west to Interstate 29; Interstate 29 north to U.S. Route 34; U.S. Route 34 west to the Missouri River; the Missouri River north to the Sarpy County line (in Nebraska); the southern Sarpy County line; the southern Saunders County line west to U.S. Route 77; and

• Bounded on the West by U.S. Route 77 north to the Platte River; the Platte River southeast to the Douglas County line; the northern Douglas County line east; the western Washington County line northwest to Nebraska State Route 91.

The following grain elevators, located outside of the above areas, are serviced by Omaha: Hancock Elevator, Elliot, Montgomery County, Iowa; Hancock Elevator (2 elevators), Griswold, Cass County, Iowa (located inside Central Iowa Grain Inspection Service, Inc.'s, area); United Farmers Coop, Rising City, Butler County, Nebraska; United Farmers Coop, Shelby, Polk County, Nebraska (located inside Fremont Grain Inspection Department, Inc.'s, area); and Goode Seed & Grain, McPaul, Fremont County, Iowa; Haveman Grain, Murray, Cass County, Nebraska (located inside Lincoln Inspection Service, Inc.'s, area).

The following grain elevators located within Omaha's assigned geographic area are serviced by Fremont Grain Inspection Department, Inc.: Farmers Cooperative, Saunders County, Nebraska and Krumel Grain and Storage, Saunders County, Nebraska.

Opportunity for Designation

Interested persons or governmental agencies may apply for designation to provide official services in the geographic areas specified above under the provisions of section 7(f) of the USGSA and 7 CFR 800.196(d). Designation in the specified geographic areas is for the period beginning January 4, 2010, and ending December 31, 2012. To apply for designation or for more information, contact Karen Guagliardo at the address listed above or visit GIPSA's Web site at http://www.gipsa.usda.gov.

Request for Comments

We are publishing this notice to provide interested persons the opportunity to comment on the quality of services provided by the Champaign, Detroit, Eastern Iowa, Enid, Keokuk, Michigan, and Omaha official agencies. In the designation process, we are particularly interested in receiving comments citing reasons and pertinent data supporting or objecting to the designation of the applicants. Submit all comments to Karen Guagliardo at the above address or at http://www.regulations.gov.

We consider applications, comments, and other available information when determining which applicant will be designated.

Authority: 7 U.S.C. 71-87k.

J. Dudley Butler,
Administrator, Grain Inspection, Packers and Stockyards Administration.

[FR Doc. E9-21336 Filed 9-3-09; 8:45 am]

BILLING CODE 3410-KD-P